FEDERAL COMMUNICATIONS COMMISSION

Public Information Collections Approved by Office of Management and Budget

January 25, 2008.

SUMMARY: The Federal Communications Commission (FCC) has received Office of Management and Budget (OMB) approval for the following public information collection(s) pursuant to the Paperwork Reduction Act of 1995, 44 U.S.C. 3501-3520. An agency may not conduct or sponsor and a person is not required to respond to a collection of information unless it displays a currently valid control number.

FOR FURTHER INFORMATION CONTACT: Leslie F. Smith, Federal Communications Commission, (202) 418-0217 or via the Internet at Leslie.Smith@fcc.gov.

SUPPLEMENTARY INFORMATION: OMB Control Number: 3060-1112.

Title: Comprehensive Review of the Universal Service Fund Management, Administration, and Oversight.

OMB Approval Date: 01/23/2008.

Expiration Date: 01/31/2011.

Form Number(s): N/A.

Type of Review: New information collection.

Respondents: Business or other for-profit entities.

Number of Respondents and Responses: 1 respondent; 1 response.

Estimated Time per Response: 1.0 hours.

Frequency of Response: Recordkeeping requirements.

Obligation to Respond: Required to obtain or retain benefits.

Total Annual Burden: 1.0 hours.

Total Annual Cost: None.

Privacy Impact Assessment: No impact(s).

Needs and Uses: On August 29, 2007, the FCC released a Report and Order (“R&O”), Comprehensive Review of the Universal Service Fund Management, Administration, and Oversight; Federal-State Joint Board on Universal Service; Schools and Libraries Universal Service Support Mechanism; Rule Health Care Support Mechanism; Lifeline and Link-up; and Changes to the Board of Directors for the National Exchange Carrier Association, Inc., WC Docket No. 05-195 et al., FCC 07-150.

In this R&O, the FCC has adopted new and revised information collection requirements that include timely filing for Telecommunications Reporting Worksheets, a reminder that USF contributors must file FCC Forms 499-A and 499-Q on a periodic basis, document retention and recordkeeping requirements and administrative limitation periods for the high-cost, low-income, and rural health care universal service programs, and various other performance measures and reporting requirements for the universal service programs and for the Universal Service Fund (“USF”) Administrator. These recordkeeping and reporting requirements are part of the FCC's continuing process to deter misconduct and inappropriate uses of the universal service funds. It is the FCC's intention that these requirements will both safeguard the USF from waste, fraud, and abuse and improve the management, administration, and oversight of the USF. These information collection requirements are as follows:

Timely filing for Worksheets. At present, Universal Service Fund contributors must file FCC Form 499-Q, “Telecommunications Reporting Worksheet” (“Worksheet”), on a timely filing basis and must not submit inaccurate or untruthful information. In addition, the R&O will require the USF Administrator to add information, e.g., a notification requirement, to the monthly invoice sent to contributors. Each monthly invoice must now also include language pertaining to the Debt Collection Improvement Act (DCIA) of 1996, substantially as follows:

A failure to submit payment may result in sanctions, including, but not limited to, the initiation of proceedings to recover the outstanding debt, together with any applicable administrative charges, penalties, and interest pursuant to the provisions of the Debt Collection Act of 1982 (Pub. L. 97-365) and the Debt Collection Improvement Act of 1996, (Pub. L. 104-134) as amended (the “DCIA”), as set forth below.

The date of payment on the invoice is the due date. If full payment is not received by the date due, the debt is delinquent. Because the unpaid amount is a debt owed to the United States, we are required by the DCIA to impose interest and to inform you what may happen if you do not pay the full outstanding debt. Under the DCIA, the United States will charge interest at the annual rate equal to the U.S. prime rate as of the date of delinquency plus 3.5 percent from the date the contribution was due. This interest rate incorporates administrative charges of collection pursuant to 47 CFR 54.713. If the debt remains unpaid more than 90 days, you will be charged an additional penalty of 6 percent a year for any part of the debt that is more than 90 days past due. If the debt remains unpaid, the full amount of the outstanding debt may be transferred to the United States Department of Treasury (“Treasury”) for debt collection, and you will be required to pay the administrative costs of processing and handling a delinquent claim as set by the Treasury (currently 28 percent of the debt). However, if you pay the full amount of the outstanding debt and associated administrative fees and penalties within 30 days of the due date, the DCIA Interest will be waived. These requirements are set out at 31 U.S.C. Section 3717. In addition to the language in the invoice, the R&O has specified that USF Administrator's invoice shall state clearly that the invoiced amount is due on a specific date and that the debt is delinquent if not paid in full by that date. The USF Administrator's invoices and any letters shall also explain the applicable sanction and administrative changes for late payments, i.e., under 31 U.S.C. 3717, a delinquent debt that is not paid in full within 30 days from the date due will incur interest, and if not paid in full within 90 days from the due date, will also incur a penalty of 6 percent per year. In addition, the delinquent contributor will be assessed the administrative costs of collection, pursuant to 47 CFR 54.713 of FCC rules. Finally, an invoice sent after partial payment should show clearly that the payment was applied to outstanding penalties, administrative costs, accrued interest, and then to the oldest outstanding principal (“American Rule”).

Document retention requirements. Having concluded in the R&O that document retention and recordkeeping requirements not only prevent waste, fraud, and abuse, but also protect applicants and service providers in the event of vendor disputes, the FCC has adopted or revised several of these requirements that will demonstrate compliance with FCC rules and regulations and be available to the USF Administrator, auditors, and the FCC, as follows:

High-cost program. Recipients of universal service support for high-cost providers must retain all records that they may require to demonstrate to auditors that the support they received was consistent with the Communications Act of 1934, as amended, and FCC rules, assuming that the audits are conducted within five years of disbursement of such support. This R&O clarifies that beneficiaries must make available all such documents and records that pertain to them, including those of NECA, contractors, and consultants working on behalf of the beneficiaries to the Commission's Office of Inspector General (“OIG”), to the USF Administrator, and to their auditors. See 47 CFR 54.202(e).¹

¹ 47 CFR 54.202(e): All eligible telecommunications carriers shall retain all records required to demonstrate to auditors that the support received was consistent with the universal service high-cost program rules. These rules should include the following: Data supporting line count filings; historical customer records; fixed asset property accounting records; general ledgers; invoice copies for the purchase and maintenance of equipment; maintenance contracts for the upgrade or equipment; and any other relevant documentation. This documentation must be maintained for at least five years from the receipt of funding.

Low-income program. With respect to the two low-income universal service programs Lifeline and Link-Up, the FCC has concluded that it should maintain the current two-tiered document retention requirements. Participating service providers must retain a record verifying the eligibility of a recipient of the program for as long as the recipient continues to receive supported service and three years more, and to make it available in conjunction with any audit to which it may be relevant. However, the R&O removes the clause that waives the requirement to retain documentation of eligibility once an audit is completed. The FCC also clarifies that beneficiaries must make available all documentation and records that pertain to them, including those of contractors and consultants working on their behalf, to the Commission's OIG, to the USF Administrator, and to auditors working on their behalf. See 47 CFR 54.417(a).²

² 47 CFR 54.417(a): Eligible telecommunications carriers must maintain records to document compliance with all Commission and state requirements governing the Lifeline/Link Up programs for the three full years preceding calendar years and requiring carriers to retain documentation for as long as the customer receives Lifeline service from the ETC or until audited by the Administrator and provide that documentation to the Commission or Administrator upon request * * *.

Rural health care and schools and libraries programs. The FCC maintains the current requirement that rural health care providers and schools and libraries must retain their records, which evidence that the funding they receive was proper, for five years. In addition, this requirement will now also apply to those service providers that receive support for serving rural health care providers. Furthermore, the FCC clarifies that beneficiaries must make available all documents and records that pertain to them, including those of contractors and consultants, working on their behalf, to the Commission's OIG, to the USF Administrator, and to their auditors, as required by 47 CFR 54.516(a) ³ and 47 CFR 54.619(a).⁴

³ 47 CFR 54.516(a) Recordkeeping requirements—(1) Schools and libraries. Schools and libraries shall retain all documents related to the application for, receipt, and delivery of discounted telecommunications and other supported services for at least 5 years after the last day of the service delivered in a particular Funding Year. Any other document that demonstrates compliance with the statutory or regulatory requirements for the schools and libraries mechanism shall be retained as well. Schools and libraries shall maintain asset and inventory records of equipment purchased as components of supported internal connections services sufficient to verify the actual location of such equipment for a period of five years after purchase.

⁴ 47 CFR 54.619(d) Service providers. Service providers shall retain documents related to the delivery of discounted telecommunications and other supported services for at least five years after the last day of the delivery of discounted services. Any documentation that demonstrates compliance with the statutory or regulatory requirements for the rural health care mechanism shall be retained as well.

Contributors. The R&O also requires contributors to the Universal Service Fund to retain all documents and records, e.g., financial statements and supporting documentation, etc., that they may require to demonstrate to auditors that their contributions were made in compliance with the program rules, assuming that audits are conducted within five years. The FCC clarifies that contributors must make available all documents and records that pertain to them, including those of contractors and consultants working on their behalf, to the Commission's OIG, to the USF Administrator, and to their auditors. Connectivity. The FCC will require the USF Administrator to work with the Commission's Wireline Competition Bureau to modify the relevant FCC Forms or to create additional questions for USF program participants to determine more accurately how schools and libraries connect to the Internet and their precise levels of connectivity.

These new and revised information collection requirements, which include document retention and recordkeeping requirements, etc., will affect numerous information collections that the FCC currently maintains. Once OMB approves these requirements, the FCC will begin to update these information collections as required by the rules adopted in this R&O.

Federal Communications Commission.
Marlene H. Dortch,
Secretary.

[FR Doc. E8-1782 Filed 1-30-08; 8:45 am]

BILLING CODE 6712-01-P